DEPARTMENT OF TRANSPORTATION

Federal Aviation Administration

14 CFR Part 60

Flight Simulation Training Device Initial and Continuing Qualification and Use

CFR Correction

In Title 14 of the Code of Federal Regulations, Parts 60 to 109, revised as of January 1, 2009, make the following corrections:

On page 6, in § 60.5(a), remove the date “October 30, 2009” and add in its place the date “May 30, 2010”;

On page 7, in § 60.7 (b)(5) and (b)(6) (two places), remove the date “October 30, 2007” and add in its place the date “May 30, 2008”; and

On page 11, in § 60.17 (a), (b), and (d), remove the date “October 30, 2007” and add in its place the date “May 30, 2008” and in (b) also remove the date “October 30, 2013” and add in its place the date “May 30, 2014”.

[FR Doc. E9-30499 Filed 12-21-09; 8:45 am]

BILLING CODE 1505-01-D